DEPARTMENT OF HOMELAND SECURITY

Coast Guard

33 CFR Part 117

[Docket No. USCG-2013-0620]

Drawbridge Operation Regulation; Lake Washington Ship Canal, Seattle, WA

AGENCY: Coast Guard, DHS.

ACTION: Notice of deviation from drawbridge regulation.

SUMMARY: The Coast Guard has issued a temporary deviation from the operating schedule that governs the Montlake Bridge across the Lake Washington Ship Canal, mile 5.2, at Seattle, WA. The deviation is necessary to accommodate vehicular traffic attending football games at Husky Stadium at the University of Washington, Seattle, Washington. This deviation allows the bridge to remain in the closed position two hours before and two hours after each game. Please note that the game times for five of the seven games scheduled for Husky Stadium have not yet been determined due to NCAA television scheduling.

DATES: This deviation is effective from 5 p.m. to 7 p.m. and 10 p.m. to 11:59 p.m. on August 31, 2013; 12:01 a.m. to 11:59 p.m. on September 21, 2013; 12:01 a.m. to 11:59 p.m. on September 28, 2013; 12:01 a.m. to 11:59 p.m. on October 12, 2013; 12:01 a.m. to 11:59 p.m. on October 26, 2013; 12:01 a.m. to 11:59 p.m. on November 9, 2013; 10:30 a.m. to 12:30 p.m. and 3:30 p.m. to 5:30 p.m. on November 29, 2013.

ADDRESSES: The docket for this deviation, [USCG-2013-0620] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Steven M. Fischer, Lieutenant Commander, Bridge Specialist, Thirteenth District, Coast Guard; telephone 206-220-7277, email Steven.M.Fischer2@uscg.mil. If you have questions on viewing the docket, call Barbara Hairston, Program Manager, Docket Operations, telephone 202-366-9826.

SUPPLEMENTARY INFORMATION: The Washington State Department of Transportation, on behalf of the University of Washington Police Department, has requested that the Montlake Bridge bascule span remain closed and need not open to vessel traffic to facilitate timely movement of pre-game and post game football traffic. The Montlake Bridge crosses the Lake Washington Ship Canal at mile 5.2 and while in the closed position provides 30 feet of vertical clearance throughout the navigation channel and 46 feet of vertical clearance throughout the center 60-feet of the bridge. These vertical clearance measurements are made in reference to the Mean Water Level of Lake Washington. Vessels which do not require a bridge opening may continue to transit beneath the bridges during this closure period. Under normal conditions this bridge opens on signal, subject to the list of exceptions provided in 33 CFR 117.1051(e).

This deviation period will cover the dates August 31, 2013 to November 29, 2013 as follows. From 5:00 p.m. to 7:00 p.m. and from 10:00 p.m. to 11:59 p.m. on August 31, 2013; from 10:30 a.m. to 12:30 p.m. and from 3:30 p.m. to 5:30 p.m. on November 29, 2013. The times for the closures on September 21, 2013, September 28, 2013, October 12, 2013, October 26, 2013, and November 09, 2013 will be determined and announced in the Coast Guard's Local Notice to Mariners and Broadcast Notice to Mariners as they become available. Due to NCAA television scheduling, the times for the games are not currently available.

The deviation allows the bascule span of the Montlake Bridge to remain in the closed position and need not open for maritime traffic from 5:00 p.m. to 7:00 p.m. and 10:00 p.m. to 11:59 p.m. on August 31, 2013, and from 10:30 a.m. to 12:30 p.m. and 3:30 p.m. to 5:30 p.m. on November 29, 2013, for times to be determined on September 21, 2013, September 28, 2013, October 12, 2013, October 26, 2013, and November 09, 2013. The bridge shall operate in accordance with 33 CFR 117.1051(e) at all other times. Waterway usage on the Lake Washington Ship Canal ranges from commercial tug and barge to small pleasure craft. Mariners will be notified and kept informed of the bridge's operational status via the Coast Guard Notice to Mariners publication and Broadcast Notice to Mariners as appropriate. The draw span will be required to open, if needed, for vessels engaged in emergency response operations during this closure period.

In accordance with 33 CFR 117.35(e), the drawbridges must return to its regular operating schedule immediately at the end of the designated time period. This deviation from the operating regulations is authorized under 33 CFR 117.35.

Dated: July 16, 2013.
Daryl R. Peloquin,
Acting Bridge Administrator, Thirteenth Coast Guard District.

[FR Doc. 2013-18029 Filed 7-25-13; 8:45 am]

BILLING CODE 9110-04-P